ENVIRONMENTAL PROTECTION AGENCY

40 CFR Parts 52 and 81

[EPA-R10-OAR-2006-0010; FRL-8171-3 ]

Approval and Promulgation of Air Quality Implementation Plans; Lakeview, OR; PM10 Maintenance Plan and Redesignation Request; Withdrawal of Direct Final Rule

AGENCY: Environmental Protection Agency (EPA).

ACTION: Withdrawal of direct final rule.

SUMMARY: Due to an adverse comment, EPA is withdrawing the March 22, 2006 direct final rule (see 71 FR 14399) to approve a PM10 State Implementation Plan (SIP) maintenance plan revision for the Lakeview, Oregon nonattainment area and to redesignate the area from nonattattainment to attainment for PM10. In the March 22, 2006 direct final rule, we stated that if we received adverse comments by April 21, 2006, the direct final rule would be withdrawn and would not take effect. EPA subsequently received adverse comment on that direct final rule. EPA will address all comments received in a subsequent final action based upon the proposed action also published on March 22, 2006 (see 71 FR 14438). EPA will not institute a second comment period on this document.

FOR FURTHER INFORMATION CONTACT: Donna Deneen, Environmental Protection Agency, Region 10, 1200 Sixth Avenue (AWT-107), Seattle, WA 98101, (206) 553-6706.

SUPPLEMENTARY INFORMATION: See the information provided in the direct final rule located in the Rules and Regulations section of the March 22, 2006 Federal Register (71 FR 14399).

List of Subjects

40 CFR Part 52

Environmental protection, Air pollution control, Incorporation by reference, Intergovernmental relations, Particulate matter, Reporting and recordkeeping requirements.

40 CFR Part 81

Environmental protection, Air pollution control, National parks, Wilderness areas.

Dated: May 9, 2006.
Julie M. Hagensen,
Acting Regional Administrator, Region 10.

[FR Doc. 06-4603 Filed 5-17-06; 8:45 am]

BILLING CODE 6560-50-P